NATIONAL FOUNDATION FOR THE ARTS AND THE HUMANITIES

National Endowment for the Arts; President's Committee on the Arts and the Humanities: Meeting #57

Pursuant to section 10(a)(2) of the Federal Advisory Committee Act (Pub. L. 92-463), as amended, notice is hereby given that a meeting of the President's Committee on the Arts and the Humanities (PCAH) will be held on Thursday, May 19, 2005 from 9 a.m. to approximately 12:30 p.m. The meeting will be held at the Oregon Historical Society, The Madison Room, 1200 SW., Park Avenue, Portland, Oregon 97205.

The Committee meeting will begin at 9 a.m. with a welcome, introductions and reports on recent Committee programs and activities. This will be followed by presentations with a dual national and local focus on (1) aspects of private support for cultural programs and (2) cultural and heritage tourism. The meeting will also include short reports, presented by agency representatives, from the National Endowment for the Humanities, the Institute of Museum and Library Services, and the National Endowment for the Arts as well as comments from the Oregon Arts Commission, the Oregon Council for the Humanities, and the Regional Arts and Culture Council in Portland. Slated presenters/guests include Judith Jedlica, President, Business Committee on the Arts, and Barbara Steinfeld, Director of Cultural Tourism, Portland Visitors Association. The meeting will adjourn after discussion of other business, as necessary, and closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend must contact Haley Gordon of the President's Committee seven days in advance of the meeting at (202) 682-5409 or write to the Committee at 1100 Pennsylvania Avenue, NW., Suite 526, Washington, DC 20506. Further information with reference to this meeting can also be obtained from Ms. Gordon.

If you need special accommodations due to a disability, please contact Ms. Gordon through the Office of AccessAbility, National Endowment for the Arts, 1100 Pennsylvania Avenue, NW., Washington, DC 20506, (202) 682-5532, TDY-TDD (202) 682-5496, at least seven (7) days prior to the meeting.

Dated: April 11, 2005.
Kathy Plowitz-Worden,
Panel Coordinator, Panel Operations, National Endowment for the Arts.

[FR Doc. 05-8131 Filed 4-21-05; 8:45 am]

BILLING CODE 7537-01-P